DEPARTMENT OF THE INTERIOR

National Park Service

National Register of Historic Places; Notification of Pending Nominations and Related Actions

Nominations for the following properties being considered for listing or related actions in the National Register were received by the National Park Service before June 12, 2010. Pursuant to § 60.13 of 36 CFR Part 60, written comments are being accepted concerning the significance of the nominated properties under the National Register criteria for evaluation. Comments may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 30, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Los Angeles County

Ford Place Historic District, 110-175 N Oakland Ave; 450-465 Ford Place; 144 N Los Robles Ave, Pasadena, 10000496

Placer County

Fiddyment Ranch Main Complex, 4440 Phillip Rd, Roseville, 10000503

CONNECTICUT

Fairfield County

Allen House, The, 4 Burritt's Landing N, Westport, 10000492

Indian Harbor Yacht Club, 710 Steamboat Rd, Greenwich, 10000494

Village Creek, Roughly bounded by Village Creek, Hayes Creek and Woodward Ave, Norwalk, 10000493

Litchfield County

Rock Hall, 19 Rock Hall Rd, Colebrook, 10000495

IDAHO

Elmore County

KwikCurb Diner, 850 S. 3rd W, Mountain Home, 10000502

IOWA

Polk County

Liberty Building, (Architectural Legacy of Proudfoot & Bird in Iowa MPS) 418 Sixth Ave, Des Moines, 10000488

MISSOURI

Nodaway County

Administrative Building, 800 University Dr, Maryville, 10000504

MONTANA

Stillwater County

United Methodist Episcopal Church, SE Corner of Clark St and Second Ave, Park City, 10000497

Yellowstone County

Dude Rancher Lodge, 415 N 29th St, Billings, 10000489

PUERTO RICO

San Juan Municipality

Rum Pilot Plant, (Rum Industry in Puerto Rico MPS) State Rd #1, Estacion Experimental Agricola, Rio Piedras, San Juan, 10000501

TENNESSEE

Hamilton County

First Congregational Church, 901 Lindsay St, Chattanooga, 10000491

TEXAS

Bexar County

Toltec, The, 131 Taylor St, San Antonio, 10000498

Karnes County

Karnes County Courthouse, 101 Panna Maria Ave, Karnes City, 10000499

Tarrant County

Vandergriff Building, 100 E Division St, Arlington, 10000500

WISCONSIN

Columbia County

Kingsley Bend Mount Group Boundary Increase, (Late Woodland Stage in Archeological Region 8 MPS) 1.5 Miles S/SE of JNCTN of STH 16 and 127, Town of Newport, 10000490

[FR Doc. 2010-17220 Filed 7-14-10; 8:45 am]

BILLING CODE P